DEPARTMENT OF JUSTICE

Immigration and Naturalization Service

[INS No. 2033-99]

Notice of Intent To Prepare a Draft Environmental Impact Statement for the Implementation of Operation Rio Grande for the United States Border Patrol, McAllen, TX

AGENCY: Immigration and Naturalization Service, Justice.

ACTION: Notice of Intent to Prepare a Draft Environmental Impact Statement (DEIS).

SUMMARY:

Proposed Action

In furtherance of its mission to gain and maintain control of the border, in August 1997, the Immigration and Naturalization Service (INS), U.S. Border Patrol, McAllen, Texas, implemented Operation Rio Grande to prevent illegal entry and drug trafficking along the Rio Grande corridor between the United States and Mexico. Operation Rio Grande involves five project actions within the Border Patrol Stations of Rio Grande City, McAllen, Mercedes, Harlingen, Brownsville, and Port Isabel. Specifically, the project will enhance the mission of the U.S. Border Patrol along the Rio Grande corridor fencing, lighting, boat ramps, road improvements, and remote video surveillance systems.

These actions are intended to reduce, detect, and deter the influx of illegal entry and drugs into the McAllen Sector, especially into nearby towns, as well as to increase apprehensions, increase community safety, and provide increased safety of operations for agents. Also, this initiative will help reduce the risk of drowning as undocumented aliens attempt to swim across the river and irrigation canals.

In February 1998, the INS began to conduct an Environmental Assessment (EA) regarding Operation Rio Grande and in October 1998, a Draft EA was released for public comment. Due to the public's concerns regarding Operation Rio Grande's impacts to the Lower Rio Grande Valley, the INS agreed to prepare an environmental Impact Statement.

Alternatives

In developing the DEIS, the options of no action and alternatives for Operation Rio Grande will be fully and thoroughly examined.

Scoping Process

During the preparation of the DEIS, there will be numerous opportunities for public involvement in order to determine the issues to be examined. A scoping meeting will be held at a location convenient to the citizens of the Lower Rio Grande Valley. The meeting will be well publicized and held at a time which will make it possible for the public and interested agencies or organizations to attend. In addition, a number of informal meetings have already been held and will be continued by representatives of the INS with interested community leaders, officials, and citizens.

DEIS Preparation

Public notice will be given in the Federal Register concerning the availability of the DEIS for public review and comment.

FOR FURTHER INFORMATION CONTACT: Manny Rodriguez, Chief Policy and Planning, Immigration and Naturalization Service, Facilities and Engineering Division, 425 I Street, NW, Washington, DC 20536, Room 2060, Attn: Debra Hood, Telephone: 202-353-4386, or Eric Verwers, INS Architect and Engineering Resource Center, U.S. Army Corp of Engineers, Fort Worth District, P.O. Box 17300, Fort Worth, Texas, 76102-0300, Telephone: 817-978-0202.

Dated: January 18, 2000.
Doris Meissner,
Commissioner, Immigration and Naturalization Service.

[FR Doc. 00-2233 Filed 02-01-00; 8:45 am]

BILLING CODE 4410-10-M